DEPARTMENT OF JUSTICE

Notice of Lodging of Consent Decree Under the Comprehensive Environmental Response, Compensation and Liability Act

In accordance with Departmental Policy, 28 CFR 50.7, notice is hereby given that a proposed Consent Decree in United States of America v. The Boeing Company et al., Civil Action No. 10-457-LRS (E.D. Wa.), was lodged with the United States District Court for the Western District of Washington on December 23, 2010. The proposed Consent Decree settles claims for, inter alia, response costs to address hazardous substances released at the Moses Lake Wellfield Superfund Site (Site).

The complaint asserts claims against the defendants—The Boeing Company, Lockheed Martin Corporation, and the City of Moses Lake—for response costs incurred at the Site by the United States Environmental Protection Agency (EPA) and the United States Army Corps of Engineers (Corps) pursuant to the section 107(a) of the Comprehensive Environmental Response, Compensation, and Liability Act (CERCLA), 42 U.S.C. 9607(a). The complaint also seeks a declaratory judgment of liability against the defendants for future response costs incurred by EPA and the Corps at the Site. The State of Washington also filed a complaint on December 23, 2010, asserting claims for response costs against the defendants as well as against the United States.

Under the proposed Consent Decree, the defendants will make payments to the United States totaling $3.25 million to resolve their CERCLA liability at the Site. The United States, on behalf of a group of settling Federal agencies including the United States Air Force, will make payments to EPA for the future response costs that are not covered by the defendants' payments. The United States will also pay, on behalf of the settling Federal agencies, future response costs incurred by the State of Washington. Based on cleanup cost estimates, the United States' payments on behalf of the settling Federal agencies, which will be largely to EPA, are expected to be approximately $55 million. The payments by the United States resolve claims against it by the State of Washington as well as claims by the defendants. In addition, the United States, on behalf of the settling Federal agencies, will pay the City of Moses Lake approximately $2.96 million to resolve claims for response costs and attorney fees asserted by the City of Moses Lake in its related pending lawsuit, No. 04-0376.

The Department of Justice will receive written comments relating to the proposed Consent Decree for a period of thirty (30) days from the date of publication of this notice. Comments should be addressed to the Assistant Attorney General, Environment and Natural Resources Division, and either e-mailed to pubcomment-ees.enrd@usdoj.gov or mailed to P.O. Box 7611, U.S. Department of Justice, Washington, DC 20044-7611, and should refer to United States of America v. The Boeing Company, et al., DJ Reference No. 90-11-2-1040/1.

The Consent Decree may be examined at the Office of the United States Attorney, Eastern District of Washington, 920 W Riverside Ave, Suite 340, Spokane, WA 99201. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $24.50 (25 cents per page reproduction cost) payable to the United States Treasury or, if requesting by e-mail or fax, forward a check in that amount to the Consent Decree Library at the stated address.

Maureen Katz,
Assistant Section Chief, Environmental Enforcement Section, Environment and Natural Resources Division, United States Department of Justice.

[FR Doc. 2010-33114 Filed 1-3-11; 8:45 am]

BILLING CODE 4410-15-P